DEPARTMENT OF HOUSING AND URBAN DEVELOPMENT

24 CFR Parts 3280, 3282, 3285, and 3286

[Docket No. FR-6042-N-01]

Manufactured Home Regulations; Request for Recommended Changes

AGENCY: Office of the Assistant Secretary for Housing—Federal Housing Commissioner, HUD.

ACTION: Advanced notice of proposed rulemaking.

SUMMARY: Consistent with the National Manufactured Housing Construction and Safety Standards Act of 1974, as amended, this document invites interested persons to submit proposed changes to update and revise HUD's Manufactured Home Construction and Safety Standards, its Manufactured Home Procedural and Enforcement Regulations, its Model Manufactured Home Installation Standards, and its Manufactured Home Installation Program regulations. Proposed changes will be submitted to the Manufactured Housing Consensus Committee (MHCC) for review and consideration as part of its responsibility to provide periodic recommendations to HUD to adopt, revise, and interpret the HUD standards and regulations.

DATES: To ensure consideration, the deadline for submitting proposed changes from the public for the 2018-2019 review period is December 31, 2017. Any Proposals received after December 31, 2017 will be held until the 2020-2021 review period.

ADDRESSES: Proposed changes to the Manufactured Home Construction and Safety Standards, Procedural and Enforcement Regulations, Model Installation Standards, and Installation Program Regulations are to be submitted using the following URL address: mhcc.homeinnovation.com or mailed to Home Innovation Research Labs, 400 Prince Georges Blvd., Upper Marlboro, MD 20774, Attention: Kevin Kauffman.

FOR FURTHER INFORMATION CONTACT: Pamela Beck Danner, Administrator and Designated Federal Official (DFO), Office of Manufactured Housing Programs, Department of Housing and Urban Development, 451 7th Street SW., Room 9168, Washington, DC 20410, telephone number 202-708-6423 (this is not a toll-free number). Persons who have difficulty hearing or speaking may access this number via TTY by calling the toll-free Federal Information Relay Service at 800-877-8339.

SUPPLEMENTARY INFORMATION: Section 604(a) of the National Manufactured Housing Construction and Safety Standards Act of 1974, as amended by the Manufactured Housing Improvement Act of 2000 (42 U.S.C. 5401 et seq.) (the Act) establishes the MHCC. According to Section 604(a)(4) of the Act, the MHCC is responsible for considering and submitting revisions to the Manufactured Home Construction and Safety Standards, codified at 24 CFR part 3280, not less than once during each 2-year period. In addition, the MHCC is responsible for considering and submitting revisions to the Manufactured Home Procedural and Enforcement Regulations (24 CFR part 3282), the Model Manufactured Home Installation Standards (24 CFR part 3285), and the Manufactured Home Installation Program Regulations (24 CFR part 3286) on the same 2-year cycle.

Consistent with the Act, this document requests that interested persons provide proposed changes to revise or update the Manufactured Home Construction and Safety Standards, the Manufactured Home Procedural and Enforcement Regulations, the Model Manufactured Home Installation Standards, and Manufactured Home Installation Program Regulations. Specifically, recommendations are requested that further HUD's efforts to increase the quality, durability, safety and affordability of manufactured homes; facilitate the availability of affordable manufactured homes and increase homeownership for all Americans; and encourage cost-effective and innovative construction techniques for manufactured homes.

To permit the MHCC to fully consider the proposed changes, commenters are encouraged to provide at least the following information:

• The specific section of the current Manufactured Home Construction and Safety Standards, Manufactured Home Procedural and Enforcement Regulations, Model Manufactured Home Installation Standards, or Manufactured Home Installation Program Regula­tions that require revision or update, or whether the recommendation would require a new standard;

• Specific detail regarding the recommendation including a statement of the problem intended to be corrected or addressed by the recommendation, how the recommendation would resolve or address the problem, and the basis of the recommendation; and

• Information regarding whether the recommendation would result in increased costs to manufacturers or consumers and the value of the benefits derived from HUD's implementation of the recommendation, should be provided and discussed to the extent feasible.

The Act requires that an administer­ing organization administer the process for the MHCC's development and interpretation of the Manufactured Home Construction and Safety Standards, Manufactured Home Procedural and Enforcement Regulations, Model Manufactured Home Installation Standards, and Manufactured Home Installation Program Regulations. The administering organization that has been selected by HUD to administer this process is Home Innovation Research Labs Inc. This document requests that proposed revisions be submitted to the MHCC for consideration through the administering organization, Home Innovation Research Labs. This organization will be responsible for ensuring delivery of all appropriately prepared proposed changes to the MHCC for its review and consideration.

Paperwork Reduction Act

The information collection requirements contained in this document have been approved by the Office of Management and Budget (OMB) under the Paperwork Reduction Act of 1995 (44 U.S.C. 3501-3520), and assigned OMB Control Number 2535-0116. In accordance with the Paperwork Reduction Act, an agency may not conduct or sponsor, and a person is not required to respond to, a collection of information, unless the collection displays a currently valid OMB control number.

Dated: July 19, 2017.
Pamela Beck Danner,
Administrator, Office of Manufactured Housing Programs.

[FR Doc. 2017-15574 Filed 7-26-17; 8:45 am]

BILLING CODE P